DEPARTMENT OF EDUCATION

[Docket No. ED-2013-ICCD-0025]

Agency Information Collection Activities; Comment Request; Technical Assistance To Promote the Implementation of Re-Engagement Centers for Out-of-School Youth

AGENCY: Office of Elementary and Secondary Education (OESE), Department of Education (ED).

ACTION: Notice.

SUMMARY: In accordance with the Paperwork Reduction Act of 1995 (44 U.S.C. chapter 3501 et seq.), ED is proposing a new information collection.

DATES: Interested persons are invited to submit comments on or before May 6, 2013.

ADDRESSES: Comments submitted in response to this notice should be submitted electronically through the Federal eRulemaking Portal at http://www.regulations.gov by selecting Docket ID number ED-2013-ICCD-0025 or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 2E117, Washington, DC 20202-4537.

FOR FURTHER INFORMATION CONTACT: Electronically mail ICDocketMgr@ed.gov. Please do not send comments here.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Technical Assistance to Promote the Implementation of Re-Engagement Centers for Out-of-school youth.

OMB Control Number: 1810-New.

Type of Review: a new information collection.

Respondents/Affected Public: State, Local and Tribal Governments.

Total Estimated Number of Annual Responses: 95.

Total Estimated Number of Annual Burden Hours: 131.

Abstract: Collection of information is necessary to fulfill the terms of Solicitation Number ED-ESE-12-R-0102, “Technical Assistance to Promote the Implementation of Re-Engagement Centers for Out-of-School Youth.” The information will be used by the Department of Education and its contractors to produce and disseminate a resource guide that shall provide detailed guidance to Local Education Agencies and community organizations in establishing and operating re-engagement centers. The information collected will ensure that the guide is thoroughly informed by current practice and up-to-date learning from the field.

Dated: February 28, 2013.
Tomakie Washington,
Acting Director, Information Collection Clearance Division, Privacy, Information and Records Management Services, Office of Management.

[FR Doc. 2013-05131 Filed 3-5-13; 8:45 am]

BILLING CODE 4000-01-P